DEPARTMENT OF ENERGY

10 CFR Part 430

[Docket No. EERE-2014-BT-STD-0059]

Energy Conservation Program: Energy Conservation Standards for Room Air Conditioners; Request for Information

AGENCY: Office of Energy Efficiency and Renewable Energy, Department of Energy.

ACTION: Extension of public comment period.

SUMMARY: On June 18, 2015, the U.S. Department of Energy (DOE) published in the Federal Register a Request for Information (RFI) regarding energy conservation standards for room air conditioners (room ACs). The RFI provided for the submission of written comments by August 3, 2015. This notice announces an extension of the public comment period for submitting comments in response to the RFI or any other aspect of the rulemaking for room ACs. The comment period is extended to September 2, 2015.

DATES: The comment period for the Request for Information published in the Federal Register on June 18, 2015 (80 FR 34843), is extended. DOE will accept comments, data, and information regarding this rulemaking received no later than September 2, 2015.

ADDRESSES: Interested persons may submit comments, identified by docket number EERE-2014-BT-STD-0059, by any of the following methods:

• Federal eRulemaking Portal: www.regulations.gov. Follow the instructions for submitting comments.

• Email: RoomAC2014STD0059@ee.doe.gov. Include the docket number EERE-2014-BT-STD-0059 in the subject line of the message.

• Mail: Ms. Brenda Edwards, U.S. Department of Energy, Building Technologies Program, Mailstop EE-5B, Request for Information for Energy Conservation Standards for Room Air Conditioners, Docket No. EERE-2014-BT-STD-0059, 1000 Independence Avenue SW., Washington, DC 20585-0121. Please submit one signed paper original.

• Hand Delivery/Courier: Ms. Brenda Edwards, U.S. Department of Energy, Building Technologies Program, 950 L'Enfant Plaza SW., Suite 600, Washington, DC 20024. Telephone (202) 586-2945. Please submit one signed paper original.

Instructions: All submissions received must include the agency name and docket number for this rulemaking. No telefacsimiles (faxes) will be accepted.

Docket: The docket is available for review at www.regulations.gov, including Federal Register notices, comments, and other supporting documents/materials. All documents in the docket are listed in the www.regulations.gov index. However, not all documents listed in the index may be publicly available, such as information that is exempt from public disclosure.

A link to the docket Web page can be found at: http://www.regulations.gov/#!docketDetail;D=EERE-2014-BT-STD-0059. This Web page contains a link to the docket for this notice on the regulation.gov site. The www.regulations.gov Web page contains instructions on how to access all documents in the docket, including public comments.

FOR FURTHER INFORMATION CONTACT:

Mr. Bryan Berringer, U.S. Department of Energy, Office of Energy Efficiency and Renewable Energy, Building Technologies, EE-5B, 1000 Independence Avenue SW., Washington, DC 20585-0121. Telephone: 202-586-0371. Email: room_air_conditioners@EE.Doe.Gov.

Ms. Sarah Butler, U.S. Department of Energy, Office of the General Counsel, GC-33, 1000 Independence Avenue SW., Washington, DC 20585-0121. Telephone: (202) 586-1777. Email: Sarah.Butler@hq.doe.gov.

SUPPLEMENTARY INFORMATION: On June 18, 2015, DOE published in the Federal Register a request for information regarding energy conservation standards for room ACs to solicit information from the public to help DOE determine whether amended standards for room ACs would result in a significant amount of additional energy savings and whether those standards would be technologically feasible and economically justified. In addition, DOE identified several issues associated with the currently applicable test procedure for room ACs on which DOE is particularly interested in receiving comment. 80 FR 34843. The notice provided for the written submission of comments by August 3, 2015. The Association of Home Appliance Manufacturers (AHAM) has requested a 30 day extension of the comment period to allow additional time for the preparation of their comments. Major interested parties for this rulemaking include major room AC manufacturers, manufacturer association, energy utilities, state agencies, international organizations, and energy and environmental advocacy groups. AHAM represents the major room AC manufacturers. AHAM has requested this extension because the comments for the proposed standards rulemaking for residential dehumidifiers are also due on August 3, 2015 and comments for proposed oven standards rulemaking are due on August 10, 2015, thus making it difficult to give these rulemakings the attention necessary to provide DOE with meaningful and thoroughly considered comments.

DOE has determined that an extension of the public comment period is appropriate based on the foregoing reason. DOE will consider any comments received by midnight of September 2, 2015, and deems any comments received by that time to be timely submitted.

Issued in Washington, DC, on July 17, 2015.
Kathleen B. Hogan,
Deputy Assistant Secretary for Energy Efficiency, Energy Efficiency and Renewable Energy.

[FR Doc. 2015-18329 Filed 7-24-15; 8:45 am]

BILLING CODE 6450-01-P